ENVIRONMENTAL PROTECTION AGENCY

Office of Research and Development

[FRL-7166-8]

Ambient Air Monitoring Reference and Equivalent Methods: Designation of One New Reference Method for PM10, Four New Equivalent Methods for PM2.5, and One New Reference Method for NO2

AGENCY: Environmental Protection Agency.

ACTION: Notice of designation of reference and equivalent methods.

SUMMARY: Notice is hereby given that the Environmental Protection Agency (EPA) has designated one new reference method for measuring concentrations of PM10 in ambient air, four new equivalent methods for measuring concentrations of PM2.5 in ambient air, and one new reference method for measuring concentrations of NO2 in ambient air.

FOR FURTHER INFORMATION CONTACT: Elizabeth Hunike, Human Exposure and Atmospheric Sciences Division (MD-46), National Exposure Research Laboratory, U.S. EPA, Research Triangle Park, North Carolina 27711. Phone: (919) 541-3737, email: Hunike.Elizabeth@epa.gov.

SUPPLEMENTARY INFORMATION: In accordance with regulations at 40 CFR part 53, the EPA examines various methods for monitoring the concentrations of those ambient air pollutants for which EPA has established National Ambient Air Quality Standards (NAAQSs), as set forth in 40 CFR part 50. Monitoring methods that are determined to meet specific requirements for adequacy are designated by the EPA as either reference methods or equivalent methods (as applicable), thereby permitting their use under 40 CFR part 58 by States and other agencies for determining attainment of the NAAQSs. The EPA hereby announces the designation of one new reference method for measuring concentrations of particulate matter as PM10 in ambient air, four new equivalent methods for measuring concentrations of particulate matter as PM2.5 in ambient air, and one new reference method for measuring concentrations of NO2 in ambient air. These designations are made under the provisions of 40 CFR part 53, as amended on July 18, 1997 (62 FR 38764).

The new reference method for PM10 is a manual method that is based on a particular, commercially available high volume PM10 sampler, as specified in appendixes J and M of 40 CFR part 50. The newly designated reference method is identified as follows:

RFPS-0202-141, “Tisch Environmental Model TE-6070 PM10 High-Volume Air Sampler,” consisting of a TE-6001 PM10 size-selective inlet, 8″ x 10″ filter holder, aluminum outdoor shelter, mass flow controller or volumetric flow controller with brush or brushless motor, 7 day mechanical off/on-elapsed timer or 11 day digital off/on-elapsed timer, and any of the high volume sampler variants identified as TE-6070, TE-6070-BL, TE-6070D, TE-6070D-BL, TE-6070V, TE-6070V-BL, TE-6070-DV, or TE-6070DV-BL, with or without the optional stainless steel filter media holder/filter cartridge or continuous flow/pressure recorder.

An application for a reference method determination for the method based on this Tisch sampler was received by the EPA on September 24, 1998. The sampler is available commercially from the applicant, Tisch Environmental, Inc., 145 South Miami Avenue, Village of Cleves, Ohio 45002.

The four new equivalent methods for PM2.5 are manual monitoring methods that are based on particular, commercially available PM2.5 samplers. The methods are identified as Class II equivalent methods, which means that they are based on an integrated, filtered air sample with gravimetric analysis, but deviate significantly from the specifications for reference methods set forth in appendix L of 40 CFR part 50. In this case, each of the four new equivalent method samplers is nearly identical to a corresponding sampler that has been previously designated by EPA as a reference method sampler for PM2.5. (Three of the samplers, with modest reconfiguration, have also been designated as reference methods for PM10.) The significant difference is that these newly designated PM2.5 equivalent method samplers are configured to use a specific, very sharp cut cyclone device as the principle particle size separator (fractionator) for the sampler rather than the WINS impactor used in the corresponding PM2.5 reference method sampler. The newly designated Class II equivalent methods are identified as follows:

EQPM-0202-142, “BGI Incorporated Models PQ200-VSCC or PQ200A-VSCC PM2.5 Ambient Fine Particle Sampler,” configured with a BGI VSCCTM Very Sharp Cut Cyclone particle size separator (in lieu of a WINS impactor) and operated with firmware version 3.88, 3.91, 3.89R, or 3.91R, for 24-hour continuous sample periods, in accordance with the Model PQ200/PQ200A Instruction Manual and VSCC supplemental manual and with the requirements and sample collection filters specified in 40 CFR part 50, appendix L, and with or without the optional Solar Power Supply or the optional dual-filter cassette (P/N F-21/6) and associated lower impactor housing (P/N B2027), where the upper filter is used for PM2.5. The Model PQ200A VSCC is described as a portable audit sampler and includes a set of three carrying cases.

EQPM-0202-143, “Rupprecht & Patashnick Co., Inc. Partisol®-FRM Model 2000 PM-2.5 FEM Air Sampler,” configured with a BGI VSCCTM Very Sharp Cut Cyclone particle size separator (in lieu of a WINS impactor) and operated with software versions 1.102-1.202, with either R&P-specified machined or molded filter cassettes, for 24-hour continuous sample periods, in accordance with the Model 2000 Instruction Manual and VSCC supplemental manual, with the requirements and sample collection filters specified in 40 CFR part 50, appendix L, and with or without the optional insulating jacket for cold weather operation.

EQPM-0202-144, “Rupprecht & Patashnick Co., Inc. Partisol® Model 2000 PM-2.5 FEM Audit Sampler,” configured with a BGI VSCCTM Very Sharp Cut Cyclone particle size separator (in lieu of a WINS impactor), and operated with software (firmware) version 1.2-1.202, for 24-hour continuous sample periods at a flow rate of 16.67 liters/minute, in accordance with the Partisol® Model 2000 Operating Manual and VSCC supplemental manual and with the requirements and sample collection filters specified in 40 CFR part 50, appendix L.

EQPM-0202-145, “Rupprecht & Patashnick Co., Inc. Partisol®-Plus Model 2025 PM-2.5 FEM Sequential Air Sampler,” configured with a BGI VSCC” Very Sharp Cut Cyclone particle size separator (in lieu of a WINS impactor), and operated with any software version 1.003 through 1.413, with either R&P-specified machined or molded filter cassettes, for 24-hour continuous sample periods, in accordance with the Model 2025 Instruction Manual and VSCC supplemental manual and with the requirements and sample collection filters specified in 40 CFR part 50, appendix L.

Related applications for equivalent method determinations for methods based on these BGI and Rupprecht & Patashnick samplers were received by the EPA on June 21, 2001, and November 6, 2001, (respectively) from BGI, Incorported and Rupprecht and Patashnick, Co., Inc. (R&P). The samplers are available commercially from the respective applicants, BGI Incorporated, 58 Guinan Street, Waltham, Massachusetts 02154, and Rupprecht & Patashnick Co., Inc., 25 Corporate Circle, Albany, New York 12203.

The new reference method for NO2 is an automated method (analyzer) which utilizes the measurement principle (gas phase chemiluminescence) and calibration procedure specified in appendix F of 40 CFR part 50. The newly designated reference method is identified as follows:

RFNA-0202-146, “Environnement S. A. Model AC32M Chemiluminescent Nitrogen Oxides Analyzer,” operated with a full scale range of 0—500 ppb, at any temperature in the range of 10° C to 35° C, with a 5-micron PTFE sample particulate filter, with response time setting 11 (automatic response time), and with or without the following option: Internal permeation oven.

An application for a reference method determination for this method was received by the EPA on September 24, 2001. The method is available commercially from the applicant, Environnement S. A., 111, Boulevard Robespierre, 78304 Poissy, France.

Test samplers or a test analyzer representative of each of these methods have been tested by the corresponding applicants in accordance with the applicable test procedures specified in 40 CFR part 53 (as amended on July 18, 1997). After reviewing the results of those tests and other information submitted by the applicants, EPA has determined, in accordance with part 53, that each of these methods should be designated as a reference or equivalent method, as indicated. The information submitted by the applicants will be kept on file, either at EPA's National Exposure Research Laboratory, Research Triangle Park, North Carolina 27711 or in an approved archive storage facility, and will be available for inspection (with advance notice) to the extent consistent with 40 CFR part 2 (EPA's regulations implementing the Freedom of Information Act).

As a designated reference or equivalent method, each of these methods is acceptable for use by states and other air monitoring agencies under the requirements of 40 CFR part 58, Ambient Air Quality Surveillance. For such purposes, the method must be used in strict accordance with the operation or instruction manual associated with the method and subject to any specifications and limitations (e.g., configuration, sample period, or temperature range) specified in the applicable designation method description (see the identification of the methods above). Use of the method should also be in general accordance with the guidance and recommendations of applicable sections of the “Quality Assurance Handbook for Air Pollution Measurement Systems, Volume II, EPA/600/R-94/0386” and with the Quality Assurance Guidance Document 2.12 (available at www.epa.gov/ttn/amtic/pmqainf.html). Vendor modifications of a designated reference or equivalent method used for purposes of part 58 are permitted only with prior approval of the EPA, as provided in part 53. Provisions concerning modification of such methods by users are specified under section 2.8 of appendix C to 40 CFR part 58 (Modifications of Methods by Users).

In general, a method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

In the particular case of the four new PM2.5 Class II equivalent methods, a corresponding PM2.5 (or PM10) reference method sampler may be converted to the equivalent method configuration by replacement of the WINS impactor (or the PM10 extension tube for the PM10 version) with the BGI Very Sharp Cut Cyclone (VSCC™) device specified in the equivalent method description. Such a conversion may be made by the sampler owner or operator. The VSCC™ device should be purchased from the sampler manufacturer, who will also furnish installation, conversion, operation, and maintenance instructions for the VSCC™ as well as a new equivalent method identification label to be installed on the sampler. If the conversion is to be permanent, the original designated reference method label should be removed from the sampler and replaced with the new designated equivalent method label. In a case where a converted sampler may need to be restored later to its original reference method configuration (such as for an application specifically requiring a reference method) by re-installation of the WINS impactor (or PM10 extension tube), the new equivalent method label may be installed on the sampler without removing the original reference method label, such that the sampler bears both labels. (Alternatively, the new label may describe multiple configurations.) In this situation, the sampler shall be clearly and conspicuously marked by the operator to indicate its current configuration (i.e. WINS/PM2.5 reference method, VSCC™/PM2.5 equivalent method, or PM10 reference method) so that the monitoring method is correctly identified and the correct method code is used when reporting monitoring data obtained with the sampler.

Part 53 requires that sellers of designated reference or equivalent method analyzers or samplers comply with certain conditions. These conditions are specified in 40 CFR 53.9 and are summarized below:

(a) A copy of the approved operation or instruction manual must accompany the sampler or analyzer when it is delivered to the ultimate purchaser.

(b) The sampler or analyzer must not generate any unreasonable hazard to operators or to the environment.

(c) The sampler or analyzer must function within the limits of the applicable performance specifications given in 40 CFR parts 50 and 53 for at least one year after delivery when maintained and operated in accordance with the operation or instruction manual.

(d) Any sampler or analyzer offered for sale as part of a reference or equivalent method must bear a label or sticker indicating that it has been designated as part of a reference or equivalent method in accordance with part 53 and showing its designated method identification number.

(e) If such an analyzer has two or more selectable ranges, the label or sticker must be placed in close proximity to the range selector and indicate which range or ranges have been included in the reference or equivalent method designation.

(f) An applicant who offers samplers or analyzers for sale as part of a reference or equivalent method is required to maintain a list of ultimate purchasers of such samplers or analyzers and to notify them within 30 days if a reference or equivalent method designation applicable to the method has been canceled or if adjustment of the sampler or analyzer is necessary under 40 CFR 53.11(b) to avoid a cancellation.

(g) An applicant who modifies a sampler or analyzer previously designated as part of a reference or equivalent method is not permitted to sell the sampler or analyzer (as modified) as part of a reference or equivalent method (although it may be sold without such representation), nor to attach a designation label or sticker to the sampler or analyzer (as modified) under the provisions described above, until the applicant has received notice under 40 CFR 53.14(c) that the original designation or a new designation applies to the method as modified, or until the applicant has applied for and received notice under 40 CFR 53.8(b) of a new reference or equivalent method determination for the sampler or analyzer as modified.

(h) An applicant who offers PM2.5 samplers for sale as part of a reference or equivalent method is required to maintain the manufacturing facility in which the sampler is manufactured as an ISO 9001-certified facility.

(i) An applicant who offers PM2.5 samplers for sale as part of a reference or equivalent method is required to submit annually a properly completed Product Manufacturing Checklist, as specified in part 53.

Aside from occasional breakdowns or malfunctions, consistent or repeated noncompliance with any of these conditions should be reported to: Director, Human Exposure and Atmospheric Sciences Division (MD-77), National Exposure Research Laboratory, U.S. Environmental Protection Agency, Research Triangle Park, North Carolina 27711.

Designation of these reference and equivalent methods is intended to assist the States in establishing and operating their air quality surveillance systems under 40 CFR part 58.

Questions concerning the commercial availability or technical aspects of any of these methods should be directed to the appropriate applicant.

Dated: March 21, 2002.
Jewel F. Morris,
Acting Deputy Director, National Exposure Research Laboratory.

[FR Doc. 02-7944 Filed 4-1-02; 8:45 am]

BILLING CODE 6560-50-P